DEPARTMENT OF HEALTH AND HUMAN SERVICES

Centers for Disease Control and Prevention

[30Day-16-16BM]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Airline and Maritime Conveyance Manifest Orders—Existing Information Collection in use without an OMB Control Number—Division of Global Migration and Quarantine, National Center for Emerging Zoonotic and Infectious Diseases, Centers for Disease Control and Prevention (CDC).

Background and Brief Description

Under the Public Health Service Act (42 United States Code 264) and under 42 Code of Federal Regulations (CFR) § 71.32(b) and 42 CFR 70.2, CDC can order airlines and maritime lines operating conveyances arriving from another country or traveling between states to submit a record for passengers and crew that CDC believes were exposed to co-traveler infected with a communicable disease of public health concern.

Stopping a communicable disease outbreak—whether it is naturally occurring or intentionally caused—requires the use of the most rapid and effective public health tools available. Basic public health practices, such as collaborating with airlines in the identification and notification of potentially exposed contacts, are critical tools in the fight against the introduction, transmission, and spread of communicable diseases in the United States.

The collection of comprehensive, pertinent contact information enables Quarantine Public Health Officers in CDC's Division of Global Migration and Quarantine (DGMQ) to notify state and local health departments in order for them to make contact with individuals who may have been exposed to a contagious person during travel and identify appropriate next steps.

In the event that there is a confirmed case of communicable disease of public health concern aboard an aircraft or ship, CDC collects manifest information for those passengers and crew at risk for exposure. This specific manifest information collection differs depending on the communicable disease that is confirmed during air or maritime travel. CDC then uses this passenger and crew manifest information to coordinate with state and local health departments so they can follow-up with residents who live or are currently located in their jurisdiction. In general, state and local health departments are responsible for the contact investigations. In rare cases, CDC may use the manifest data to perform the contact investigation directly. In either case, CDC works with state and local health departments to ensure individuals are contacted and provided appropriate public health follow-up.

CDC estimates that for each traveler manifest ordered, airlines require approximately six hours to review the order, search their records, and send those records to CDC. There is no cost to respondents other than their time perform these actions. CDC does not have a specified format for these submissions. The total estimated burden to respondents as a result of this information collection is 750 hours per year. While CDC has included maritime conveyance manifest orders in the public health rationale for this information collection, these orders are rare and are not included in the burden table.

Estimated Annualized Burden Hours
Type of respondent | Form name | Number of respondents | Number of responses per respondent | Average burden per response (in hours)
Airline Medical Officer or Equivalent | Domestic TB Manifest Template | 1 | 1 | 360/60
Airline Medical Officer or Equivalent | Domestic Non-TB Manifest Template | 28 | 1 | 360/60
Airline Medical Officer or Equivalent | International TB Manifest Template | 67 | 1 | 360/60
Airline Medical Officer or Equivalent | International Non-TB Manifest Template | 29 | 1 | 360/60

Leroy A. Richardson,
Chief, Information Collection Review Office, Office of Scientific Integrity, Office of the Associate Director for Science, Office of the Director, Centers for Disease Control and Prevention.

[FR Doc. 2016-00275 Filed 1-8-16; 8:45 am]

BILLING CODE 4163-18-P